ENVIRONMENTAL PROTECTION AGENCY

[EPA-HQ-OPP-2010-0014; FRL-9912-89]

Product Cancellation Order for Certain Pesticide Registrations

AGENCY: Environmental Protection Agency (EPA).

ACTION: Notice.

SUMMARY: This notice announces EPA's order for the cancellations, voluntarily requested by the registrants and accepted by the Agency, of the products listed in Table 1 of Unit II., pursuant to the Federal Insecticide, Fungicide, and Rodenticide Act (FIFRA). This cancellation order follows a December 4, 2013 Federal Register Notice of Receipt of Requests from the registrants listed in Table 2 of Unit II. to voluntarily cancel these product registrations. In the December 4, 2013 notice, EPA indicated that it would issue an order implementing the cancellations, unless the Agency received substantive comments within the 180-day comment period that would merit its further review of these requests, or unless the registrants withdrew their requests. The Agency received comments on the notice but none merited its further review of the requests. Further, the registrants did not withdraw their requests. Accordingly, EPA hereby issues in this notice a cancellation order granting the requested cancellations. Any distribution, sale, or use of the products subject to this cancellation order is permitted only in accordance with the terms of this order, including any existing stocks provisions. In addition, for pertinent information relating to EPA Reg. No. 000241-00379 as published in the December 4, 2014 notice, see Unit II. of this notice.

DATES: The cancellations are effective July 16, 2014.

FOR FURTHER INFORMATION CONTACT: John W. Pates, Jr., Pesticide Re-Evaluation Division (7508P), Office of Pesticide Programs, Environmental Protection Agency, 1200 Pennsylvania Ave. NW., Washington, DC 20460-0001; telephone number: (703) 308-8195; email address: pates.john@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2010-0014, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces the cancellation, as requested by registrants, of products registered under FIFRA section 3. These registrations are listed in sequence by registration number in Table 1 of this unit.

Pesticide registration number 000241-00379 and its content has been removed from the listing in Table 1. EPA inadvertently listed the pesticide registration number 000241-00379, in the Federal Register of December 4, 2013 (78 FR 72881) (FRL 9902-41). Therefore, this action excludes pesticide registration number 000241-00379 from cancellation.

Table 1—Product Cancellations
EPA Registration No. | Product name | Chemical name
000004-00406 | Eight Insect Control Garden & Home Insect Control Ready-to-Use | Permethrin.
000264-00940 | Gustafson Vitavax-PCNB Flowable Fungicide | Pentachloronitrobenzene & Carboxin.
000264-00943 | RTU-Vitavax-Thiram Seed Protectant Fungicide | Thiram & Carboxin.
000264-00948 | Gustafson LSP Flowable Fungicide | Thiabendazole.
000264-00952 | Kodiak HB Biological Fungicide | Bacillus subtilis GB03.
000264-00953 | Kodiak A-T Fungicide | Pentachloronitrobenzene, Bacillus subtilis GB03, & Metalaxyl.
000264-00958 | Tops MZ Potato Seed-Piece Treatment Fungicide | Mancozeb & Thiophanate-methyl.
000264-00974 | Gustafson AG-Streptomycin | Streptomycin sulfate.
000264-00984 | Titan FL | Clothianidin, Thiram, Metalaxyl & Carboxin.
000264-01013 | Ipconazole Metalaxyl MD (S) | Metalaxyl, & Ipconazole.
000264-01014 | Gustafson Allegiance Dry Seed Protectant Fungicide | Metalaxyl.
000264-01015 | Prevail Allegiance Terraclor Vitavax Fungicide | Pentachloronitrobenzene, Carboxin & Metalaxyl.
000264-01016 | Stiletto Pak | Thiram, Carboxin, & Metalaxyl.
000264-01017 | Imidacloprid Vitavax Metalaxyl Seed Treatment | Carboxin, Imidacloprid, & Metalaxyl.
000264-01018 | Protector-L-Allegiance | Thiram & Metalaxyl.
000264-01019 | Stiletto | Thiram, Carboxin, & Metalaxyl.
000264-01035 | Prosper T200 Insecticide and Fungicide Seed Treatment | Metalaxyl, Carboxin, Trifloxystrobin, & Clothianidin.
000264-01079 | Three-Way VAP | Clothianidin, Ipconazole, & Metalaxyl.
000264-01082 | Proceed Plus | Metalaxyl, Tebuconazole, Prothioconazole, & Clothianidin.
000464-00667 | Bioban CS-1246 | Oxazolidine-E.
035935-00076 | Prodiamine Technical | Prodiamine.
053883-00029 | Viper WP | Cypermethrin.
062719-00505 | GF-120 NF Naturalyte Fruit Fly Bait | Spinosad.
067517-00047 | Hard Hitter Wettable Powder | Permethrin.
069361-00033 | Propicon 3.6 EC Fungicide | Propiconazole.
AZ-080015 | Proclipse 65 WDG | Prodiamine.
CA-080022 | Proclipse 65 WDG | Prodiamine.
CO-940006 | Comite II | Propargite.
MA-050002 | Abound Flowable Fungicide | Azoxystrobin.
OR-090001 | Sluggo Slug and Snail Bait | Phosphoric acid, iron(3+) salt (1:1).

Table 2 of this unit includes the names and addresses of record for all registrants of the products in Table 1 of this unit, in sequence by EPA company number. This number corresponds to the first part of the EPA registration numbers of the products listed in Table 1 of this unit.

Table 2—Registrants of Cancelled Products
EPA Company No. | Company name and address
4 | Bonide Products, Inc.
| Agent: Registrations By Design, Inc. P.O. Box 1019, Salem, VA 24153-1019.
264 | Bayer CropScience LP
| 2 T.W. Alexander Drive, P.O. Box 12014, Research Triangle Park, NC 27709.
464 | The Dow Chemical Company
| 1500 East Lake Cook Road, Buffalo Grove, IL 60089.
35935 | Nufarm Limited
| Agent: Nufarm Limited, 4020 Aerial Center Pkwy, Suite 103, Morrisville, NC 27560.
53883 | Controls Solutions, Inc.
| 5903 Genoa-Red Bluff Road, Pasadena, TX 77507-1041.
62719 | Dow AgroSciences
| 9330 Zionsville Road, Indianapolis, IN 46268.
67517 | Virbac Animal Health
| 3200 Meacham Boulevard, Fort Worth, TX 76137.
69361 | Repar Corp
| Agent: Madava Associates, LLC, 1050 Conn. Ave. NW., Suite 1000, Washington, DC 20036.
AZ-080015, CA-080022 | Nufarm Americas, Inc. Agent: Nufarm Americas, Inc., 4020 Aerial Center Pkwy., Suite 101, Morrisville, NC 27560.
CO-940006 | Chemtura Corporation
| 199 Benson Road, Middlebury, CT 06749.
MA-050002 | Syngenta Crop Protection, LLC
| 410 Swing Road, P.O. Box 18300, Greensboro, NC 27419-8300.
OR-090001 | W. Neudorff GMBH KG
| 1008 Riva Ridge Drive, Great Falls, VA 22066.

III. Summary of Public Comments Received and Agency Response to Comments

During the public comment period, EPA received four comments regarding pesticide concerns in general. These four comments did not contain information about any specific product cancellation request. For these reasons, the Agency does not believe that the comments submitted during the comment period merit further review or a denial of the requests for voluntary cancellation.

IV. Cancellation Order

Pursuant to FIFRA section 6(f), EPA hereby approves the requested cancellations of the registrations identified in Table 1 of Unit II. Accordingly, the Agency hereby orders that the product registrations identified in Table 1 of Unit II. are cancelled. The effective date of the cancellations that are the subject of this notice is July 16, 2014. Any distribution, sale, or use of existing stocks of the products identified in Table 1 of Unit II. in a manner inconsistent with any of the provisions for disposition of existing stocks set forth in Unit VI. will be a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of December 4, 2013 (78 FR 72881) (FRL-9902-41). The comment period closed on June 2, 2014.

VI. Provisions for Disposition of Existing Stocks

Existing stocks are those stocks of registered pesticide products which are currently in the United States and which were packaged, labeled, and released for shipment prior to the effective date of the cancellation action. The existing stocks provisions for the products subject to this order are as follows.

The registrants may continue to sell and distribute existing stocks of products listed in Table 1 of Unit II. until July 16, 2015, which is 1 year after the publication of the Cancellation Order in the Federal Register. Thereafter, the registrants are prohibited from selling or distributing products listed in Table 1, except for export in accordance with FIFRA section 17, or proper disposal. Persons other than the registrants may sell, distribute, or use existing stocks of products listed in Table 1 of Unit II. until existing stocks are exhausted, provided that such sale, distribution, or use is consistent with the terms of the previously approved labeling on, or that accompanied, the canceled products.

List of Subjects

Environmental protection, Pesticides and pests.

Dated: June 30, 2014.
Richard P. Keigwin, Jr.
Director, Pesticide Re-Evaluation Division, Office of Pesticide Programs.

[FR Doc. 2014-16458 Filed 7-11-14; 8:45 am]

BILLING CODE 6560-50-P